DEPARTMENT OF COMMERCE

International Trade Administration

[A-201-844]

Steel Concrete Reinforcing Bar From Mexico: Amended Final Results of Antidumping Duty Administrative Review; 2020-2021; Correction

AGENCY: Enforcement and Compliance, International Trade Administration, Department of Commerce.

ACTION: Notice; correction.

SUMMARY: The U.S. Department of Commerce (Commerce) published a notice in the Federal Register of July 28, 2023, in which it issued the amended final results of the administrative review of the antidumping duty (AD) order on steel concrete reinforcing bar (rebar) from Mexico. This notice inadvertently omitted a company, Sidertul S.A. de C.V., that was subject to the AD review.

DATES: Applicable August 9, 2023.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Correction

In the Federal Register of July 28, 2023, in FR Doc 2023-16033, on pages 48792-48973, in the weighted-average dumping margin table, Commerce did not list a company named “Sidertul S.A. de C.V.”

Background

On December 28, 2021, Commerce initiated this administrative review on multiple companies, including Sidertul S.A. de C.V. (Sidertul), covering the period November 1, 2020, through October 31, 2021.¹ Subsequently, on June 9, 2023, Commerce published in the Federal Register the final results of the administrative review; this notice listed Sidertul as one of the companies not selected for individual examination that was assigned the weighted average of the dumping margins calculated for the two mandatory respondents, Deacero S.A.P.I. de C.V./Ingeteknos Estructurales, S.A. de C.V. and Grupo Acerero S.A. de C.V.² Finally, Commerce published the Amended Final Results on July 28, 2023, to correct a ministerial error that resulted in amended weighted-average dumping margins assigned to certain companies, including the companies not selected for individual examination.³ In the Amended Final Results, Commerce inadvertently omitted Sidertul, and the amended final rate that it was assigned, from the weighted-average dumping margin table.⁴ With the issuance of this notice of correction, we confirm that Sidertul is included among the group of firms that was assigned the rate for companies not selected for individual examination in this administrative review covering the period November 1, 2020, through October 31, 2021.

¹ See Initiation of Antidumping and Countervailing Duty Administrative Reviews, 86 FR 73734 (December 28, 2021).

² See Steel Concrete Reinforcing Bar from Mexico: Final Results of Antidumping Duty Administrative Review; 2020-2021, 88 FR 37849 (June 9, 2023).

³ See Steel Concrete Reinforcing Bar from Mexico: Amended Final Results of Antidumping Duty Administrative Review; 2020-2021, 88 FR 48792 (July 28, 2023) (Amended Final Results).

⁴ Id.

The corrected weighted-average dumping margin table, including Sidertul, is as follows:

Producer or exporter | Weighted- average dumping margin (percent)
Deacero S.A.P.I. de C.V./Ingeteknos Estructurales, S.A. de C.V | 2.49
Grupo Acerero S.A. de C.V | 16.28
ArcelorMittal Mexico SA de CV | 5.93
Grupo Simec/Aceros Especiales Simec Tlaxcala, S.A. de C.V./Compania Siderurgica del Pacifico S.A. de C.V./Fundiciones de Acero Estructurales, S.A. de C.V./Grupo Chant S.A.P.I. de C.V./Operadora de Perfiles Sigosa, S.A. de C.V./Orge S.A. de C.V./Perfiles Comerciales Sigosa, S.A. de C.V./RRLC S.A.P.I. de C.V./Siderúrgicos Noroeste, S.A. de C.V./Siderurgica del Occidente y Pacifico S.A. de C.V./Simec International, S.A. de C.V./Simec International 6 S.A. de C.V./Simec International 7 S.A. de C.V./Simec International 9 S.A. de C.V | 5.93
Sidertul S.A. de C.V | 5.93

Notification to Interested Parties

This notice is issued and published in accordance with sections 751(h) and 777(i)(1) of the Act, and 19 CFR 351.224(e).

Dated: August 2, 2023.
Lisa W. Wang,
Assistant Secretary for Enforcement and Compliance.

[FR Doc. 2023-17048 Filed 8-8-23; 8:45 am]

BILLING CODE 3510-DS-P